DEPARTMENT OF EDUCATION

Notice of Open Meeting; National Advisory Committee on Institutional Quality and Integrity

AGENCY: National Advisory Committee on Institutional Quality and Integrity (NACIQI), Office of Postsecondary Education, U.S. Department of Education.

ACTION: Announcement of meeting.

SUMMARY: This notice sets forth the agenda, time, and instructions to access or participate in the July 19-22, 2022, virtual meeting of NACIQI. This notice provides information about the meeting to members of the public who may be interested in attending the meeting and/or providing written or oral comments. Notice of this meeting is required under section 10(a)(2) of the Federal Advisory Committee Act (FACA) and section 114(d)(1)(B) of the Higher Education Act (HEA) of 1965, as amended.

DATES: The virtual NACIQI meeting will be held on July 19-22, 2022, from 10:00 a.m. to 4:30 p.m. Eastern Standard Time each day.

ADDRESSES: The meeting will be virtual.

FOR FURTHER INFORMATION CONTACT: George Alan Smith, Executive Director/Designated Federal Official, NACIQI, U.S. Department of Education, 400 Maryland Avenue SW, Room 2C-159, Washington, DC 20202, telephone: (202) 453-7757, or email: George.Alan.Smith@ed.gov.

SUPPLEMENTARY INFORMATION:

Statutory Authority and Function

NACIQI is established under section 114 of the HEA (20 U.S.C. 1011c). NACIQI advises the Secretary of Education with respect to:

• The establishment and enforcement of the standards of accrediting agencies or associations under subpart 2, part H, Title IV of the HEA, as amended;

• The recognition of specific accrediting agencies or associations;

• The preparation and publication of the list of nationally recognized accrediting agencies and associations;

• The eligibility and certification process for institutions of higher education under Title IV of the HEA and part C, subchapter I, chapter 34, Title 42, together with recommendations for improvement in such process;

• The relationship between (1) accreditation of institutions of higher education and the certification and eligibility of such institutions, and (2) State licensing responsibilities with respect to such institutions; and

• Any other advisory function relating to accreditation and institutional eligibility that the Secretary of Education may prescribe by regulation.

Meeting Agenda

Agenda items for the July 19-22, 2022, meeting is listed below.

Applications for Renewal of Recognition

1. Association for Biblical Higher Education, Commission on Accreditation. Scope of recognition: The accreditation and pre-accreditation (“Candidate Status”) of institutions of biblical higher education in the United States offering undergraduate certificates, associate degrees, baccalaureate degrees, graduate certificates, and master's degrees, including the accreditation of educational programs offered via distance education.

2. American Occupational Therapy Association, Accreditation Council for Occupational Therapy Education. Scope of recognition: The accreditation of occupational therapy educational programs offering the professional master's degree, combined baccalaureate/master's degree, and occupational therapy doctorate (OTD) degree; the accreditation of occupational therapy assistant programs offering the associate degree or a certificate; and the accreditation of these programs offered via distance education. Requested scope of recognition: The pre-accreditation and accreditation throughout the United States of occupational therapy education programs offering the professional master's degree, combined baccalaureate/master's degree, and occupational therapy doctorate (OTD) degree; and occupational therapy assistant programs offering the baccalaureate degree, associate degree, or a certificate; including those programs offered via distance education.

3. Accreditation Council for Pharmacy Education. Scope of recognition: The accreditation and pre-accreditation within the United States of professional degree programs in pharmacy leading to the degree of Doctor of Pharmacy, including those programs offered via distance education.

4. Association for Clinical Pastoral Education, Inc., Accreditation Commission. Scope of recognition: The pre-accreditation (provisional) and accreditation of both clinical pastoral education (CPE) centers and Certified Educator CPE programs within the United States, including those programs offered via distance education.

5. American Dental Association, Commission on Dental Accreditation. Scope of recognition: The accreditation of predoctoral dental education programs (leading to the D.D.S. or D.M.D. degree), advanced dental education programs, and allied dental education programs that are fully operational or have attained “Initial Accreditation” status, including programs offered via distance education.

6. Distance Education Accrediting Commission. Scope of recognition: The accreditation of postsecondary institutions in the United States that offer degree and/or non-degree programs primarily by the distance or correspondence education method up to and including the professional doctoral degree, including those institutions that are specifically certified by the agency as accredited for Title IV purposes.

7. Middle States Commission on Secondary Schools. Scope of recognition: The accreditation of postsecondary, non-degree granting institutions that offer all or part of their educational programs via distance education modalities in the United States.

8. Southern Association of Colleges and Schools, Commission on Colleges (“SACSCOC”). Scope of recognition: The accreditation and pre-accreditation (“Candidate for Accreditation”) of degree-granting institutions of higher education in Alabama, Florida, Georgia, Kentucky, Louisiana, Mississippi, North Carolina, South Carolina, Tennessee, Texas, and Virginia, including the accreditation of programs offered via distance and correspondence education within these institutions. This recognition extends to the SACSCOC Board of Trustees and the Appeals Committee of the College Delegate Assembly on cases of initial candidacy or initial accreditation and for continued accreditation or candidacy.

Compliance Report

1. New York State Board of Regents, State Education Department, Office of the Professions (Public Postsecondary Vocational Education, Practical Nursing). Scope of Recognition: State agency for the approval of public postsecondary vocational education in the field of practical nursing offered by a Board of Cooperative Educational Services, an Educational Opportunity Center, City School Districts, and County Boards of Supervisors to prepare persons for licensed practical nursing careers in the State of New York. The compliance report includes findings of noncompliance with criteria in 34 CFR 603, as referenced in the senior Department official decision letter dated May 27, 2020, available under NACIQI meeting date 02/27/2020 at https://surveys.ope.ed.gov/erecognition/PublicDocuments.

Administration Policy Update

A representative from the Biden-Harris Administration will provide an update on the Administration's higher education policy priorities.

Accreditation Dashboard Subcommittee

The NACIQI Accreditation Dashboard Subcommittee will provide a progress report.

NACIQI Policy Discussion

In addition to its review of accrediting agencies and State approval agencies for Secretarial recognition, there will be time for Committee discussions regarding any of the categories within NACIQI's statutory authority in its capacity as an advisory committee.

Instructions for Accessing the Meeting

Registration

You may register for the meeting on your computer using the link below. After you register, you will receive a confirmation email containing personalized participation links for each day of the two-day meeting. Dial-in numbers may be requested for each day of the meeting between 8:45 a.m.-9:45 a.m. Eastern Standard Time by emailing Monica.Freeman@ed.gov.

Registration Link

https://naciqisummer2022.eventbrite.com/.

Public Comment

Submission of requests to make an oral comment regarding a specific accrediting agency under review, or to make an oral comment or written statement regarding other issues within the scope of NACIQI's authority:

Submissions of written statements regarding a specific accrediting agency under review were solicited by a previous Federal Register notice published on July 12, 2021 (86 FR 36532; Document Number 2021-14741). The period for submission of such statements is now closed. Additional written comments regarding a specific agency or state approval agency under review will not be accepted at this time. However, members of the public may submit written statements regarding other issues within the scope of NACIQI's authority.

Members of the public may request to make an oral comment about a specific agency or state approval agency under review and/or about other issues within the scope of NACIQI's authority. Oral comments may not exceed three minutes. Oral comments about an agency's recognition when a compliance report has been required by the senior Department official or the Secretary must relate to the criteria for recognition cited in the senior Department official's letter that requested the report, or in the Secretary's appeal decision, if any. Oral comments about an agency seeking expansion of scope must be directed to the agency's ability to serve as a recognized accrediting agency with respect to the kinds of institutions or programs requested to be added. Oral comments about the renewal of an agency's recognition must relate to its compliance with the Criteria for the Recognition of Accrediting Agencies, which are available at http://www.ed.gov/admins/finaid/accred/index.html.

Written statements and oral comments concerning NACIQI's work outside of a specific accrediting agency under review must be limited to the scope of NACIQI's authority, as outlined under section 114 of the HEA (20 U.S.C. 1011c).

Instructions on Requesting To Make Oral Public Comment or To Submit a Written Statement to NACIQI Concerning Its Work Outside a Specific Accrediting Agency Under Review

To request to make an oral comment of three minutes or less during the July 19-22, 2022 meeting, please follow either Method One or Method Two below. To submit a written statement to NACIQI concerning its work outside a specific accrediting agency under review, please follow Method One.

Method One: Submit a request by email to the ThirdPartyComments@ed.gov mailbox. Please do not send material directly to NACIQI members. Written statements to NACIQI concerning its work outside a specific accrediting agency under review and requests to make oral comment must be received by July 12, 2022, and include the subject line “Oral Comment Request: (agency name),” “Oral Comment Request: (subject)” or “Written Statement: (subject).” The email must include the name(s), title, organization/affiliation, mailing address, email address, and telephone number, of the person(s) submitting a written statement or requesting to speak. All individuals submitting an advance request in accordance with this notice will be afforded an opportunity to speak.

Method Two (Only available to those seeking to make oral comments): Register on July 19, 2022, from 8:45 a.m.-9:45 a.m. Eastern Standard Time, by sending an email to the ThirdPartyComments@ed.gov mailbox with the subject line “Oral Comment Request: (agency name)” or “Oral Comment Request: (subject).” The email must include the subject on which the requestor wishes to comment, in addition to his or her name, title, organization/affiliation, mailing address, email address, and telephone number. A total of up to fifteen minutes for each agenda item will be allotted for oral commenters who register on July 19, 2022, by 9:45 a.m. Eastern Standard Time. Individuals will be selected on a first-come, first-served basis. If selected, each commenter may not exceed three minutes.

Access to Records of the Meeting: The Department will post the official report of the meeting on the NACIQI website https://sites.ed.gov/naciqi/ within 90 days after the meeting. In addition, pursuant to FACA, the public may request to inspect records of the meeting at 400 Maryland Avenue SW, Washington, DC 20202, by emailing aslrecordsmanager@ed.gov or by calling (202) 453-7415 to schedule an appointment. The senior Department official's (as defined in 34 CFR 602.3) decisions, pursuant to 34 CFR 602.36, associated with all NACIQI meetings can be found at the following website: https://surveys.ope.ed.gov/erecognition/PublicDocuments.

Reasonable Accommodations: The meeting dial-in information and weblink are accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: Section 114 of the HEA of 1965, as amended (20 U.S.C. 1011c).

Annmarie Weisman,
Deputy Assistant Secretary for Policy, Planning and Innovation, Office of Postsecondary Education.

[FR Doc. 2022-13033 Filed 6-16-22; 8:45 am]

BILLING CODE 4000-01-P